DEPARTMENT OF ENERGY

Federal Energy Regulatory Commission

[Docket No. EL02-77-001]

Puget Sound Energy, Inc.; Notice of Technical Conference

October 20, 2004.

Parties are invited to attend a technical conference in the above-referenced Puget Sound Energy, Inc. (Puget) proceeding on Tuesday November 9, 2004 at 10 a.m. (EST) in a room to be designated at the offices of the Federal Energy Regulatory Commission, 888 First Street, NE., Washington, DC 20426.

The purpose of the conference is to identify the issues raised in this proceeding, develop information for use by Commission staff in preparing an order on Puget's October 10, 2003 request for rehearing of the Commission's September 11, 2003 Order,¹ and to facilitate any possible settlements in this proceeding. Specifically, the parties will discuss, among other things, Puget's request for clarification that the Commission's September 11, 2003 Order authorizes the following: (1) Puget will provide wholesale transmission service over the facilities described as transmission facilities in its petition for declaratory order (Petition) under Puget's Open Access Transmission Tariff (OATT), at the rates approved in the Commission's February 15, 2002 order;² (2) Puget will provide “wholesale distribution” service over the facilities described as “distribution” in its Petition (primarily facilities 34.5 kV to 115 kV) at the rates and terms of service approved in the February 15 Order; (3) Puget will provide unbundled retail transmission service over the facilities described as transmission facilities in Puget's Petition to customers participating in its state-approved retail access program, at OATT rates, in accordance with the service agreements accepted by the Commission in Docket No. ER01-2149;³ (4) Puget will provide “unbundled retail distribution service” over the facilities described as “distribution” in Puget's Petition (primarily facilities 34.5 kV to 115 kV) to customers participating in its state-approved retail access program at the rates and terms of service approved by the Washington Utilities and Transportation Commission (WUTC); and (5) Puget will continue to account for its transmission and “local distribution” facilities as proposed in Docket ER02-605; that filing was accepted in part in the February 10 Order.

¹ Puget Sound Energy, Inc., 104 FERC ¶61,272 (2003) (September 11 Order).

² Puget Sound Energy, Inc., 98 FERC ¶ 61,168 at 61,622 (2002) (February 15 Order), reh'g denied, 99 FERC ¶ 61,134 (2002).

³ Those service agreements were accepted for filing by Commission letter order on July 11, 2001.

Questions about the conference should be directed to: Sarah H. McWane, Office of the General Counsel—Markets, Tariffs and Rates, Federal Energy Regulatory Commission, 888 First Street, NE., Washington, DC 20426, (202) 502-8372, Sarah.McWane@ferc.gov.

Magalie R. Salas,
Secretary.

[FR Doc. E4-2860 Filed 10-26-04; 8:45 am]

BILLING CODE 6717-01-P